DEPARTMENT OF ENERGY

Federal Energy Regulatory Commission

Combined Notice of Filings #1

October 4, 2010.

Take notice that the Commission has received the following Natural Gas Pipeline Rate and Refund Report filings:

Docket Numbers: RP10-1390-000.

Applicants: Fayetteville Express Pipeline LLC.

Description: Fayetteville Express Pipeline LLC submits tariff filing per 154.601: XTO Assignment Filing to be effective 10/1/2010.

Filed Date: 09/30/2010.

Accession Number: 20100930-5199.

Comment Date: 5 p.m. Eastern Time on Tuesday, October 12, 2010.

Docket Numbers: RP10-1391-000.

Applicants: Iroquois Gas Transmission System, L.P.

Description: Iroquois Gas Transmission System, L.P. Annual update of its Deferred Asset Surcharge for the amortization period commencing November 1, 2010.

Filed Date: 09/30/2010.

Accession Number: 20100930-5202.

Comment Date: 5 p.m. Eastern Time on Tuesday, October 12, 2010.

Docket Numbers: RP10-1392-000.

Applicants: Tennessee Gas Pipeline Company.

Description: Tennessee Gas Pipeline Company submits tariff filing per 154.204: PR Negotiated Rate Devon to BP to be effective 10/30/2010.

Filed Date: 09/30/2010.

Accession Number: 20100930-5214.

Comment Date: 5 p.m. Eastern Time on Tuesday, October 12, 2010.

Docket Numbers: RP10-1393-000.

Applicants: Enbridge Offshore Pipelines (UTOS) LLC.

Description: Enbridge Offshore Pipelines (UTOS) LLC submits tariff filing per 154.312: UTOS Rate Case to be effective 11/1/2010.

Filed Date: 09/30/2010.

Accession Number: 20100930-5237.

Comment Date: 5 p.m. Eastern Time on Tuesday, October 12, 2010.

Docket Numbers: RP10-1394-000.

Applicants: Northern Natural Gas Company.

Description: Northern Natural Gas Company submits First Revised Sheet No 1 et al. to FERC Gas Tariff, Sixth Revised Volume No 1, to be effective 11/1/2010.

Filed Date: 09/30/2010.

Accession Number: 20100930-5246.

Comment Date: 5 p.m. Eastern Time on Tuesday, October 12, 2010.

Docket Numbers: RP10-1395-000.

Applicants: Petal Gas Storage, L.L.C.

Description: Petal Gas Storage, L.L.C. submits tariff filing per 154.203: Baseline Compliance to RM01-5 (E-Tariff) to be effective 11/2/2010.

Filed Date: 09/30/2010.

Accession Number: 20100930-5254.

Comment Date: 5 p.m. Eastern Time on Tuesday, October 12, 2010.

Docket Numbers: RP10-1396-000.

Applicants: Gas Transmission Northwest Corporation.

Description: Gas Transmission Northwest Corporation submits tariff filing per 154.204: Medford E2 Rate Adj. to be effective 11/1/2010.

Filed Date: 09/30/2010.

Accession Number: 20100930-5267.

Comment Date: 5 p.m. Eastern Time on Tuesday, October 12, 2010.

Docket Numbers: RP10-1397-000.

Applicants: Wyoming Interstate Company, L.L.C.

Description: Wyoming Interstate Company, L.L.C. submits their Transportation Service Agreements etc with Bill Barret/Anadarko, to be effective 10/30/2010.

Filed Date: 09/30/2010.

Accession Number: 20100930-5275.

Comment Date: 5 p.m. Eastern Time on Tuesday, October 12, 2010.

Docket Numbers: RP10-1398-000.

Applicants: El Paso Natural Gas Company.

Description: El Paso Natural Gas Company submits tariff filing per 154.312: System-Wide Rate Case to be effective 11/1/2010.

Filed Date: 09/30/2010.

Accession Number: 20100930-5312.

Comment Date: 5 p.m. Eastern Time on Tuesday, October 12, 2010.

Docket Numbers: RP10-1399-000.

Applicants: Dauphin Island Gathering Partners.

Description: Dauphin Island Gathering Partners submits tariff filing per 154.204: Negotiated Rates 2010-10 to be effective 10/1/2010.

Filed Date: 09/30/2010.

Accession Number: 20100930-5322.

Comment Date: 5 p.m. Eastern Time on Tuesday, October 12, 2010.

Docket Numbers: RP10-1400-000.

Applicants: Chandeleur Pipe Line Company.

Description: Chandeleur Pipe Line Company submits tariff filing per 154.203: Chandeleur Pipe Line Company Baseline FERC Gas Tariff Filing to be effective 11/1/2010.

Filed Date: 09/30/2010.

Accession Number: 20100930-5324.

Comment Date: 5 p.m. Eastern Time on Tuesday, October 12, 2010.

Docket Numbers: RP10-1401-000.

Applicants: Viking Gas Transmission Company.

Description: Viking Gas Transmission Company submits tariff filing per 154.204: Removal of Non-Conforming Agreements to be effective 11/1/2010.

Filed Date: 09/30/2010.

Accession Number: 20100930-5335.

Comment Date: 5 p.m. Eastern Time on Tuesday, October 12, 2010.

Docket Numbers: RP10-1402-000

Applicants: Natural Gas Pipeline Company of America LLC.

Description: Natural Gas Pipeline Company of America LLC submits tariff filing per 154.203: Baseline Filing to be effective 9/30/2010.

Filed Date: 09/30/2010.

Accession Number: 20100930-5339.

Comment Date: 5 p.m. Eastern Time on Tuesday, October 12, 2010.

Docket Numbers: RP10-1403-000.

Applicants: Sabine Pipe Line LLC.

Description: Sabine Pipe Line LLC submits tariff filing per 154.203: Sabine Pipe Line LLC Baseline Tariff Filing to be effective 11/1/2010.

Filed Date: 09/30/2010.

Accession Number: 20100930-5341.

Comment Date: 5 p.m. Eastern Time on Tuesday, October 12, 2010.

Docket Numbers: RP10-1404-000.

Applicants: High Island Offshore System, L.L.C.

Description: High Island Offshore System, L.L.C. submits tariff filing per 154.203: Initial Baseline Filing to be effective 9/30/2010.

Filed Date: 09/30/2010.

Accession Number: 20100930-5394.

Comment Date: 5 p.m. Eastern Time on Tuesday, October 12, 2010.

Docket Numbers: RP10-1405-000.

Applicants: Young Gas Storage Company, Ltd.

Description: Operational Purchases and Sales Report for the 12 months ending June 30, 2010 of Young Gas Storage Company, Ltd.

Filed Date: 09/30/2010.

Accession Number: 20100930-5402.

Comment Date: 5 p.m. Eastern Time on Tuesday, October 12, 2010.

Docket Numbers: RP10-1406-000.

Applicants: Kern River Gas Transmission Company.

Description: Kern River Gas Transmission Company submits tariff filing per 154.403: 2010 Periodic Rate Adjustment to be effective 11/1/2010.

Filed Date: 09/30/2010.

Accession Number: 20100930-5434.

Comment Date: 5 p.m. Eastern Time on Tuesday, October 12, 2010.

Docket Numbers: RP10-1407-000.

Applicants: Kinder Morgan Interstate Gas Transmission LLC.

Description: Kinder Morgan Interstate Gas Transmission LLC submits tariff filing per 154.204: Negotiated Rate 2010-09-30 Mieco and TMV to be effective 10/1/2010.

Filed Date: 09/30/2010.

Accession Number: 20100930-5461.

Comment Date: 5 p.m. Eastern Time on Tuesday, October 12, 2010.

Docket Numbers: RP10-1408-000.

Applicants: Equitrans, L.P.

Description: Equitrans, L.P. submits tariff filing per 154.204: Negotiated Rate Agreement Filing to be effective 10/1/2010.

Filed Date: 09/30/2010.

Accession Number: 20100930-5472.

Comment Date: 5 p.m. Eastern Time on Tuesday, October 12, 2010.

Docket Numbers: RP10-1409-000.

Applicants: Ozark Gas Transmission, L.L.C.

Description: Ozark Gas Transmission, L.L.C. submits tariff filing per 154.204: Negotiated Rate—BP—Contract 850008 to be effective 11/1/2010.

Filed Date: 09/30/2010.

Accession Number: 20100930-5483.

Comment Date: 5 p.m. Eastern Time on Tuesday, October 12, 2010.

Docket Numbers: RP10-1410-000.

Applicants: Kern River Gas Transmission Company.

Description: Kern River Gas Transmission Company submits tariff filing per 154.203: 2010 Reservation Charge Credits to be effective 12/1/2010.

Filed Date: 09/30/2010.

Accession Number: 20100930-5487.

Comment Date: 5 p.m. Eastern Time on Tuesday, October 12, 2010.

Docket Numbers: RP10-1411-000

Applicants: UGI LNG Inc.

Description: UGI LNG Inc. submits tariff filing per 154.203: UGI LNG FERC Gas Tariff No. 1 to be effective 9/30/2010.

Filed Date: 09/30/2010.

Accession Number: 20100930-5491.

Comment Date: 5 p.m. Eastern Time on Tuesday, October 12, 2010.

Docket Numbers: RP10-1412-000.

Applicants: Natural Gas Pipeline Company of America LLC.

Description: Natural Gas Pipeline Company of America LLC submits tariff filing per 154.203: Compliance in Docket Nos. RP10-147-004, RP10-147-005 and RP10-1402 to be effective 10/2/2010.

Filed Date: 10/01/2010.

Accession Number: 20101001-5009.

Comment Date: 5 p.m. Eastern Time on Wednesday, October 13, 2010.

Docket Numbers: RP10-1413-000.

Applicants: TransColorado Gas Transmission Company LLC.

Description: TransColorado Gas Transmission Company LLC submits tariff filing per 154.204: No Fuel Filing—Enterprise to be effective 11/1/2010.

Filed Date: 10/01/2010.

Accession Number: 20101001-5010.

Comment Date: 5 p.m. Eastern Time on Wednesday, October 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-25561 Filed 10-8-10; 8:45 am]

BILLING CODE 6717-01-P